SMALL BUSINESS ADMINISTRATION

[Declaration of Disaster #3354]

Commonwealth of Virginia; Amendment #2

In accordance with a notice received from the Federal Emergency Management Agency, dated August 9, 2001, the above numbered declaration is hereby amended to include Lee County as a disaster area due to damages caused by Severe Storms and Flooding occurring on July 8, 2001 and continuing.

In addition, applications for economic injury loans from small businesses located in the following contiguous counties may be filed until the specified date at the previously designated location: Bell County in Kentucky; and Claiborne County in Tennessee. All other contiguous counties have been previously declared.

All other information remains the same, i.e., the deadline for filing applications for physical damage is September 10, 2001, and for loans for economic injury the deadline is April 12, 2002.

(Catalog of Federal Domestic Assistance Program Nos. 59002 and 59008.)

Dated: August 14, 2001.
Herbert L. Mitchell,
Associate Administrator for Disaster Assistance.

[FR Doc. 01-20868 Filed 8-17-01; 8:45 am]

BILLING CODE 8025-01-P